DEPARTMENT OF THE TREASURY

Office of Foreign Assets Control

Designation of Four Individuals and Nine Entities Pursuant to Executive Order 13581, “Blocking Property of Transnational Criminal Organizations”

AGENCY: Office of Foreign Assets Control, Treasury.

ACTION: Notice.

SUMMARY: The Treasury Department's Office of Foreign Assets Control (OFAC) is publishing the names of four individuals and nine entities whose property and interests in property are blocked pursuant to Executive Order 13581 of July 24, 2011, “Blocking Property of Transnational Criminal Organizations,” and who have been added to OFAC's List of Specially Designated Nationals and Blocked Persons (SDN List).

DATES: OFAC's actions described in this notice were effective on October 11, 2016.

FOR FURTHER INFORMATION CONTACT: Associate Director for Global Targeting, tel.: 202/622/2420, Associate Director for Sanctions Policy and Implementation, tel.: 202/622/2480, Office of Foreign Assets Control, or Chief Counsel (Foreign Assets Control), tel.: 202/622/2410, Office of the General Counsel, Department of the Treasury (not toll free numbers).

SUPPLEMENTARY INFORMATION: The SDN List and additional information concerning OFAC sanctions programs are available from OFAC's Web site at http://www.treas.gov/ofac.

Notice of OFAC Actions

On October 11, 2016, OFAC blocked the property and interests in property of the following individuals and entities and placed them on the SDN List.

Individuals

1. KHANANI, Obaid Altaf (a.k.a. “AHMED, Obaid”), Apt 411 and 412, Juma Al Majid Bldg, Tower B, Al Nadha, Sharjah, United Arab Emirates; 107 Kings Road, Old Trafford, Manchester, Lancashire M16 9WY, United Kingdom; DOB 20 Jul 1987; POB Karachi, Pakistan; Passport BF4108623 (Pakistan) (individual) [TCO] (Linked To: KAY ZONE GENERAL TRADING LLC; Linked To: LANDTEK DEVELOPERS; Linked To: ALTAF KHANANI MONEY LAUNDERING ORGANIZATION; Linked To: AL ZAROONI EXCHANGE).

2. KHANANI, Hozaifa Javed (a.k.a. KHANANI, Huzaifa Jawed), House No D-85 Block 5, Clifton, Karachi, Pakistan; DOB 04 May 1987; Passport AF6899813 (Pakistan); National ID No. 4220197869815 (Pakistan) (individual) [TCO] (Linked To: KAY ZONE BUILDERS & DEVELOPERS; Linked To: UNICO TEXTILES; Linked To: ALTAF KHANANI MONEY LAUNDERING ORGANIZATION).

3. KHANANI, Muhammad Javed (a.k.a. KHANANI, Javaid; a.k.a. KHANANI, Javed; a.k.a. KHANANI, Javed Muhammad; a.k.a. KHANANI, Javeed), D-85 Block, Clifton, Karachi, Pakistan; Third Floor, Penthouse, Osma Terrace PECHS, Flat No 9/1, Block 2, Karachi, Pakistan; DOB 02 May 1961; citizen Pakistan; Passport DW4100432 (individual) [TCO] (Linked To: ALTAF KHANANI MONEY LAUNDERING ORGANIZATION).

4. POLANI, Atif (a.k.a. POLANI, Atif Abdul Aziz), D-31, Block-5, Clifton, Karachi, Pakistan; Dubai, United Arab Emirates; DOB 09 Jan 1978; Passport KE155664 (Pakistan); National ID No. 42301-4685763-5 (Pakistan) (individual) [TCO] (Linked To: ALTAF KHANANI MONEY LAUNDERING ORGANIZATION; Linked To: AL ZAROONI EXCHANGE).

Entities

1. KAY ZONE BUILDERS & DEVELOPERS (a.k.a. KAY ZONE BUILDERS AND DEVELOPERS), House #D-85, Block-5, Clifton, Karachi, Pakistan [TCO] (Linked To: KHANANI, Hozaifa Javed).

2. KAY ZONE GENERAL TRADING LLC, Office No. 412, Abdul Ahmed Al Zarouni Building, Deira, Dubai, United Arab Emirates; Registration ID 1046349 (United Arab Emirates); Dubai Chamber of Commerce Membership No. 175229; Trade License No. 626883 (United Arab Emirates) [TCO] (Linked To: KHANANI, Obaid Altaf).

3. LANDTEK DEVELOPERS, 5th Floor, Emerald Tower, G-19, Block-5, Clifton Road, Clifton, Karachi, Pakistan [TCO] (Linked To: KHANANI, Obaid Altaf).

4. UNICO TEXTILES, S.f. Unit #5, Hub River Road, S.I.T.E., Karachi, Pakistan [TCO] (Linked To: KHANANI, Hozaifa Javed).

5. AYDAH TRADING LLC (a.k.a. AYDAH TRADING AL AIN), P.O. Box 89103, Dubai, United Arab Emirates; P.O. Box 16524, Al Ain, Abu Dhabi, United Arab Emirates; Rm. 413, Jumma Bldg., Naif Rd., Deira, Dubai, United Arab Emirates [TCO] (Linked To: ALTAF KHANANI MONEY LAUNDERING ORGANIZATION).

6. JETLINK TEXTILES TRADING, No. 1004 Dummy Deyar Developer Bldg., P.O. Box 203253, Dubai, United Arab Emirates; P.O. Box 41792, Office No. 1004 Deyaar Developer Building, Business Bay, Dubai, United Arab Emirates; P.O. Box 282158, Dubai, United Arab Emirates; P.O. Box 46584, Sheikh Zayed Road, Dubai, United Arab Emirates; Commercial Registry Number 1144902; License 717783 [TCO] (Linked To: ALTAF KHANANI MONEY LAUNDERING ORGANIZATION).

7. MAZAKA GENERAL TRADING L.L.C., 108 Al Safa Tower, Sheikh Zayed Road, P.O. Box 181176, Dubai, United Arab Emirates; PO BOX 181176, Al Souk Al Kabir Rd, Ben Daghen Building 6, Dubai, United Arab Emirates; 108 Al Safa Tower Trade Center, First Land No 23, PO Box No 181176, Dubai, United Arab Emirates; Govt. Of Dubai Real Estate Bldg. Bur, Main, P.O. Box 3162, Dubai, United Arab Emirates; Web site http://mazakatrading.com; National ID No. 214774 (United Arab Emirates); Trade License No. 683633 (United Arab Emirates) [TCO] (Linked To: ALTAF KHANANI MONEY LAUNDERING ORGANIZATION).

8. SEVEN SEA GOLDEN GENERAL TRADING LLC, Al Qasimiya Street 25022, Sharjah, United Arab Emirates; Ofc. 413, Al Jumma Bldg., Naif Rd., Deira, Dubai, United Arab Emirates [TCO] (Linked To: ALTAF KHANANI MONEY LAUNDERING ORGANIZATION).

9. WADI AL AFRAH TRADING LLC, P.O. Box 40553, Dubai, United Arab Emirates; P.O. Box 39807, Dubai, United Arab Emirates; Flat No. 405 Rahim Al Badri Bldg., Naif Road, Deira, Dubai, United Arab Emirates; Registration ID 620850 (United Arab Emirates) [TCO] (Linked To: ALTAF KHANANI MONEY LAUNDERING ORGANIZATION).

Dated: October 11, 2016.
John E. Smith,
Acting Director, Office of Foreign Assets Control.

[FR Doc. 2016-24926 Filed 10-13-16; 8:45 am]

BILLING CODE 4810-AL-P